NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 29, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request

Schedules Pending

1. Department of Agriculture, Departmental Administration (N1-16-10-3, 1 item, 1 temporary item). Master files of an electronic information system used to track service requests.

2. Department of Defense, Army and Air Force Exchange Service (N1-334-10-1, 6 items, 5 temporary items). Inspector General records, including such records as inspection reports, hotline files, and investigative files relating to cases lacking historical significance. Historically significant case files are proposed for permanent retention.

3. Department of Health and Human Services, Administration on Aging (N1-439-09-2, 14 items, 14 temporary items). Schedules of daily activities and files of the Deputy Assistant Secretary; administrative policies, procedures and reports; organizational analysis files; working files for the Office of Management Analysis and Resources; budget formulation files and financial management files; grant award files, program support files and working files; and working files for the Office of Administrative and Technology Services.

4. Department of Health and Human Services, Administration on Aging (N1-439-09-4, 9 items, 8 temporary items). Master data files containing grantee reporting data; master data files containing contact information for eldercare services; master data files used for tracking correspondence through the office of the Executive Secretary; and master data files of raw and aggregated data from the National Survey of Older Americans. Proposed as permanent are master data files for the public use version of data from the National Survey of Older Americans.

5. Department of Health and Human Services, Centers for Medicare & Medicaid Services (N1-440-09-6, 1 item, 1 temporary item). Master files of an electronic information system that contains documentation relating to the eligibility and enrollment of Medicare beneficiaries.

6. Department of Health and Human Services, Centers for Medicare & Medicaid Services (N1-440-09-16, 1 item, 1 temporary item). Master files of an electronic information system that contains information concerning Medicare contractor workload, budget administration, and provider cost reporting.

7. Department of Health and Human Services, Centers for Medicare & Medicaid Services (N1-440-10-1, 17 items, 17 temporary items). Records relating to agency oversight of Medicare Health Plan Organizations. Included are such records as compliance reports, performance measurements, loan guarantees, and correspondence files.

8. Department of Health and Human Services, Centers for Medicare & Medicaid Services (N1-440-10-3, 2 items, 2 temporary items). Master files and outputs of an electronic information system that contains information concerning personal health records pilot projects.

9. Department of Homeland Security, U.S. Secret Service (N1-87-10-1, 1 item, 1 temporary item). Master files of an electronic information system used to capture, digitize, and transmit fingerprint information to the Federal Bureau of Investigation for search against criminal fingerprint records.

10. Department of the Interior, Office of the Secretary (N1-49-08-16, 1 item, 1 temporary item). Master files of an electronic information system used to track employee training and progress.

11. Department of Justice, Antitrust Division (N1-60-05-11, 2 items, 1 temporary item). Electronic data relating to time reporting and personnel matters contained in subsystems of an electronic information system that contains data concerning the Division's operations and activities. Proposed for permanent retention is electronic data contained in subsystems that relate to substantive Division activities, such as investigations, cases, and special projects.

12. Department of Justice, Antitrust Division (N1-60-09-55, 2 items, 1 temporary item). Bank merger applications that do not result in an investigation. Master files of an electronic information system that tracks bank acquisitions are proposed for permanent retention. Applications that result in an investigation were previously approved as permanent.

13. Department of Justice, Justice Management Division (N1-60-10-4, 2 items, 2 temporary items). Files relating to the certification of agency employees in regard to education and training in contracting and acquisition. Included are case files relating to the granting of certifications as well as files relating to waivers of certification requirements.

14. Department of Justice, Executive Office for U.S. Attorneys (N1-60-09-29, 10 items, 8 temporary items). Outputs of electronic information systems used to track and manage cases and personnel resources. Master files of these systems are proposed for permanent retention.

15. Department of Justice, Executive Office for U.S. Trustees (N1-60-09-62, 3 items, 3 temporary items). Records related to the U.S. Trustee Program's internal Web site. Both Web content and Web management records are included.

16. Department of Justice, Executive Office for U.S. Trustees (N1-60-09-71, 1 item, 1 temporary item). Master files of an electronic information system that contains data concerning staff time spent on defined categories of work.

17. Department of Justice, Federal Bureau of Investigation (N1-65-09-27, 5 items, 2 temporary items). Outputs and audit logs of an electronic information system used to manage information about confidential human sources. Master files of this electronic system, hard copy case files and related electronic indexes are proposed for permanent retention.

18. Department of Justice, Federal Bureau of Investigation (N1-65-10-1, 2 items, 2 temporary items). Photograph collections maintained by the Laboratory Division, including photographs relating to bombing incidents. These photographs are duplicates of the original photographs, which are maintained in the related investigative case file.

19. Department of Justice, Federal Bureau of Investigation (N1-65-10-11, 6 items, 6 temporary items). Master files, outputs, audit logs and related records associated with an electronic information system used to support the Department of State's visa approval process.

20. Department of the Navy, Agency-wide (N1-NU-09-8, 7 items, 3 temporary items). Case files, records relating to survivor's benefits, and other files associated with the death of active duty military personnel. Proposed for permanent retention are such records as casualty reports, reports of death, death certificates, and Naval Board of Inquiry recommendations.

21. Department of Transportation, Federal Highway Administration (N1-406-09-2, 3 items, 2 temporary items). Files accumulated by field offices of the Federal Lands Highway Division. Included are administrative files relating to policies and procedures, relations with outside organizations, and planning as well as construction project files. Final construction reports are proposed for permanent retention.

22. Department of Transportation, Federal Highway Administration (N1-406-10-2, 2 items, 2 temporary items). Master files and outputs of an electronic information system used to manage the laboratory testing of construction materials, including the receipt of samples and billings.

23. Department of the Treasury, Alcohol and Tobacco Tax and Trade Bureau (N1-564-09-7, 1 item, 1 temporary item). Content records associated with the Bureau's internal Web site, which functions as a portal to other agency systems and also includes copies of agency records.

24. Department of the Treasury, Internal Revenue Service (N1-58-09-75, 2 items, 2 temporary items). Master files and documentation associated with an electronic information system used to maintain statistics on examinations conducted by Tax Exempt/Government Entity field offices.

25. Department of the Treasury, Internal Revenue Service (N1-58-09-77, 3 items, 3 temporary items). Master files, outputs, and documentation associated with an electronic information system used as a decision-making tool for ensuring consistent application of tax laws to innocent spouse claims.

26. Department of the Treasury, Internal Revenue Service (N1-58-09-78, 2 items, 2 temporary items). Master files and documentation associated with an electronic information system used to forward letters to otherwise un-locatable persons on behalf of other agencies, organizations, or private citizens.

27. Department of the Treasury, Internal Revenue Service (N1-58-09-79, 3 items, 3 temporary items). Master files and documentation associated with an electronic information system used to perform quarterly and annual updates of taxpayer information using the most recent bankruptcy data.

28. Department of the Treasury, Internal Revenue Service (N1-58-09-86, 2 items, 2 temporary items). Master files and documentation associated with an electronic information system used to map money follow-throughs across all agency taxpaying entities.

29. Department of the Treasury, Internal Revenue Service (N1-58-09-88, 2 items, 2 temporary items). Master files and documentation associated with an electronic information system used to track the status of claims applications for the informant award program.

30. Commodity Futures Trading Commission, Agency-wide (N1-180-09-2, 7 items, 7 temporary items). Electronic data and other records associated with an electronic information system that contains financial statements submitted for review by registrants.

31. Commodity Futures Trading Commission, Agency-wide (N1-180-09-4, 11 items, 11 temporary items). Electronic data associated with an electronic information system that is used to identify large traders whose positions may pose risk to the industry or a clearing firm.

Dated: February 19, 2010.
Michael J. Kurtz,
Assistant Archivist for Records Services—Washington, DC.

[FR Doc. 2010-3877 Filed 2-24-10; 8:45 am]

BILLING CODE 7515-01-P